NATIONAL SCIENCE FOUNDATION

Committee on Equal Opportunities in Science and Engineering Notice of Meeting

In accordance with the Federal Advisory Committee Act (Pub. L. 92-463, as amended), the National Science Foundation announces the following meeting:

Name: Committee on Equal Opportunities in Science and Engineering (CEOSE) Advisory Committee Meeting (#1173).

Dates/Time: October 13, 2016; 8:00 a.m.-Noon; October 14, 2016; 1:30 p.m.-5:30 p.m.

Place: National Science Foundation (NSF), 4201 Wilson Boulevard, Arlington, VA 22230.

To help facilitate your entry into the building, please contact Vickie Fung (vfung@nsf.gov) on or prior to October 10, 2016.

Type of Meeting: Open.

Contact Person: Dr. Bernice Anderson, Senior Advisor and CEOSE Executive Secretary, Office of Integrative Activities (OIA)/Office of Director, National Science Foundation, 4201 Wilson Boulevard, Arlington, VA 22230. Contact Information: 703-292-8040/banderso@nsf.gov.

Minutes: Meeting minutes and other information may be obtained from the CEOSE Executive Secretary at the above address or the Web site at http://www.nsf.gov/od/oia/activities/ceose/index.jsp.

Purpose of Meeting: To study data, programs, policies, and other information pertinent to the National Science Foundation and to provide advice and recommendations concerning broadening participation in science and engineering.

Agenda:

• Opening Statement and Chair Report by the CEOSE Chair

• NSF Executive Liaison Report

• Updates from the Federal Liaisons

• Panel Presentations: NSF INCLUDES (Inclusion across the Nation of Communities of Learners of Underrepresented Discovers in Engineering and Science)

• Discussion: 2015-2016 CEOSE Biennial Report to Congress

• Discussion: An Accountability System for Broadening Participation in STEM

• Discussion: Reports by CEOSE Liaisons to NSF Advisory Committees

• Working Session: Chapter Three of the 2015-2016 CEOSE Biennial Report to Congress

Dated: September 12, 2016
Crystal Robinson,
Committee Management Officer.

[FR Doc. 2016-22213 Filed 9-14-16; 8:45 am]

BILLING CODE 7555-01-P